ENVIRONMENTAL PROTECTION AGENCY

40 CFR Part 52

[EPA-R09-OAR-2011-0131, FRL-9317-9]

Approval and Promulgation of Air Quality Implementation Plans; State of California; Regional Haze State Implementation Plan and Interstate Transport Plan; Interference With Visibility Requirement

Correction

In rule document 2011-14479, appearing on pages 34608-34611, in the issue of June 14, 2011, make the following correction:

On page 34608, in the second column, in the Environmental Protection Agency document, the subject is corrected to appear as above.

[FR Doc. C1-2011-14479 Filed 7-19-11; 8:45 am]

BILLING CODE 1505-01-D